DEPARTMENT OF COMMERCE

International Trade Administration

[A-580-825]

Oil Country Tubular Goods, Other Than Drill Pipe, From Korea: Court Decision Not in Harmony With Final Results of Administrative Review

AGENCY: Import Administration, International Trade Administration, Department of Commerce.

SUMMARY: On December 22, 2008, the United States Court of International Trade (CIT) sustained the Department of Commerce's (the Department) results of redetermination pursuant to the CIT's remand and entered final judgment in Husteel Company, Ltd., and SeAH Corp., Ltd., v. United States, Consol. Ct. No. 06-00075, Slip Op. 08-139 (CIT December 22, 2008) (Husteel v. United States II ). See Results of Redetermination on Remand Pursuant to Husteel Company, Ltd., and SeAH Corp., Ltd., v. United States, dated August 29, 2008, and Results of Redetermination on Remand Pursuant to Husteel Company, Ltd., and SeAH Corp., Ltd., v. United States, dated December 5, 2008 (available at http://ia.ita.doc.gov/remands). Consistent with the decision of the United States Court of Appeals for the Federal Circuit (CAFC) in Timken Co. v. United States, 893 F.2d 337 (Fed. Cir. 1990) (Timken), the Department is notifying the public that the final judgment in this case is not in harmony with the Department's final results of the administrative review of the antidumping duty order on oil country tubular goods, other than drill pipe, from Korea covering the period of review (POR) of August 1, 2003 through July 31, 2004. See Oil Country Tubular Goods, Other Than Drill Pipe, from Korea: Final Results of Antidumping Duty Administrative Review, 71 FR 13091 (March 14, 2006) (Final Results).

DATES: Effective Date: December 22, 2008.

FOR FURTHER INFORMATION CONTACT: Scott Lindsay, AD/CVD Operations, Office 6, Import Administration, International Trade Administration, U.S. Department of Commerce, 14th Street and Constitution Avenue, NW., Washington, DC 20230; telephone (202) 482-0780.

SUPPLEMENTARY INFORMATION:

Background

On March 14, 2006, the Department issued its final results in the antidumping duty administrative review of oil country tubular goods, other than drill pipe, from Korea covering the POR of August 1, 2003 through July 31, 2004. See Final Results. In the Final Results, the Department found that the use of third country sales to a non-market economy (the People's Republic of China (PRC), in this case) is inappropriate for determining normal value, because these sales are not representative. Id. As such, in calculating normal value for SeAH Steel Corp. Ltd. (SeAH), the Department used SeAH's third country sales to Canada, and in calculating normal value for Husteel Co. Ltd. (Husteel), the Department utilized constructed value. Therefore, SeAH was assigned a rate of 6.84 percent, and Husteel was assigned a rate of 12.30 percent. Id.

In Husteel Company, Ltd., and SeAH Corp., Ltd., v. United States, Consol. Ct. No. 06-00075, Slip Op. 08-62 (CIT June 2, 2008) (Husteel v. United States I), the CIT remanded the Final Results, holding that the Department's finding that sales into a non-market economy are not representative was not supported by substantial record evidence. The CIT directed the Department to either present persuasive record evidence that SeAH's and Husteel's sales into the PRC were not representative within the meaning of 19 U.S.C. 1677b(a)(1)(B)(ii)(I), or find the sales into the PRC to be representative, and then recalculate and assign SeAH and Husteel new antidumping duty assessment rates. On August 29, 2008, the Department issued its final results of redetermination pursuant to Husteel v. United States I. See Results of Redetermination on Remand Pursuant to Husteel Company, Ltd., and SeAH Corp., Ltd., v. United States (August 29, 2008) (Remand Results). The remand redetermination explained that, in accordance with the CIT's instructions, after finding sales to the PRC to be representative, the Department recalculated the assessment rate for SeAH and Husteel. Specifically, the Department determined SeAH's new weighted-average margin to be 0.59 percent, and Husteel's new weighted-average margin to be 0.62 percent.

However, in the Remand Results, the Department inadvertently treated certain Korean inventory carrying costs as if they were denominated in U.S. dollars when they, in fact, had been denominated in Korean won. Therefore, in Husteel Company Ltd. and SeAH Corp. Ltd., v. United States, Consol. Ct. No. 06-000075, Slip Op. 08-127 (CIT November 21, 2008), the CIT upheld the Department's Remand Results, with the exception of the calculation of certain inventory carrying costs. The CIT ordered the Department to correct its calculation of Husteel's Korean inventory carrying costs. In accordance with the CIT's order, the Department corrected its calculation with regard to Husteel's Korean inventory carrying costs. See Results of Redetermination on Remand Pursuant to Husteel Company, Ltd., and SeAH Corp., Ltd., v. United States (December 5, 2008). As a result, Husteel's new dumping margin is now de minimis , and SeAH's margin remains 0.59 percent.

Timken Notice

In its decision in Timken, 893 F.2d at 341, the CAFC held that, pursuant to section 516A(e) of the Tariff Act of 1930, as amended (the Act), the Department must publish a notice of a court decision that is not “in harmony” with a Department determination and must suspend liquidation of entries pending a “conclusive” court decision. The CIT's decision in Husteel vs. United States II, on December 22, 2008, constitutes a final decision of that court that is not in harmony with the Department's Final Results. This notice is published in fulfillment of the publication requirements of Timken. Accordingly, the Department will continue the suspension of liquidation of the subject merchandise pending the expiration of the period of appeal or, if appealed, pending a final and conclusive court decision. In the event the CIT's ruling is not appealed or, if appealed, upheld by the CAFC, the Department will instruct U.S. Customs and Border Protection to assess antidumping duties on entries of the subject merchandise during the POR from Husteel and SeAH based on the revised assessment rates calculated by the Department.

This notice is issued and published in accordance with section 516A(c)(1) of the Act.

Dated: January 21, 2009.
Ronald K. Lorentzen,
Acting Assistant Secretary for Import Administration.

[FR Doc. E9-1940 Filed 1-28-09; 8:45 am]

BILLING CODE 3510-DS-P